DEPARTMENT OF THE INTERIOR

Bureau of Land Management

[CO-160-1430-EQ; COC-73222]

Notice of Realty FLPMA Section 302 Permit/Lease, Gunnison County, CO

AGENCY: Bureau of Land Management, Interior.

ACTION: Notice of Realty Action.

SUMMARY: Gunnison Aggregate Resources has submitted a proposal for a land use authorization to operate an asphalt batch plant and other materials processing and temporary storage pursuant to Section 302 of the Federal Land Policy and Management Act of 1976 and regulations at Title 43 CFR 2920. The land consists of approximately 1.25 acres of public lands approximately 5 miles southwest of Gunnison in Gunnison County, Colorado, within a portion of the SW¼SW¼SE¼ of Section 17, T.49N., R.1W., New Mexico Principal Meridian. The land is within a 50-acre parcel of public land designated as the McCabe Lane community gravel pit. The proponent is a permit holder authorized to extract gravel from the McCabe Lane pit.

DATES: Interested parties may submit comments concerning the proposed permit/lease until November 17, 2008. Only written comments will be accepted.

ADDRESSES: Address all written comments concerning this notice to the Field Manager, BLM Gunnison Field Office, 216 N. Colorado St., Gunnison, Colorado 81230.

FOR FURTHER INFORMATION CONTACT: Marnie Medina, Realty Specialist, at the above address, or call (970) 642-4457.

SUPPLEMENTARY INFORMATION: This is a notice of a proposal for a land use authorization. No additional proposals will be accepted. After review, the BLM has determined that the proposed use is in conformance with the Gunnison Resource Area Resource Management Plan, and that the above described land is available for that use. Therefore, pursuant to section 302(b) of the Federal Land Policy and Management Act of 1976 (43 U.S.C. 1732(b)) and the implementing regulations at Title 43 CFR 2920, the BLM will accept for processing an application to be filed by Gunnison Aggregate Resources, or its duly qualified designee, for a noncompetitive permit/lease of the above described lands, to be used, occupied, and developed as stated above. It is the judgment of the authorized officer that, as provided for in 43 CFR 2920.5-4(b), no competitive interest exists, or competitive bidding would represent unfair competitive and economic disadvantage to the originator of the unique land use concept that is compatible with the public interest. The rental for the noncompetitive permit/lease shall not be less than fair market value.

The BLM will estimate the costs of processing the permit/lease application. Before the BLM begins to process the application, the applicant must pay the full amount of the estimated costs to the United States. If a lease is not granted, the applicant must pay to the United States, in addition to the estimated costs, the reasonable costs incurred by the BLM in processing the application in excess of the estimated costs. Rent, payable annually or otherwise in advance, will be determined by the BLM, if and when a lease application is granted and periodically thereafter. If a permit or lease is granted, the permittee/lessee shall reimburse the United States for all reasonable administrative and other costs incurred by the United States in processing the application and for monitoring construction, operation, maintenance and rehabilitation of the land and facilities authorized. The reimbursement of costs shall be in accordance with the provisions of 43 CFR 2920.6.

The permit/lease application must include a reference to this notice and comply in all respects with the regulations pertaining to land use authorization applications at 43 CFR 2920.5-2 and 2920.5-5(b). If authorized, the permit/lease would be subject to valid existing rights.

Comments must be received by the BLM Gunnison Field Manager, at the above address, on or before the date stated above. Before including your address, phone number, e-mail address, or other personal identifying information in your comment, be advised that your entire comment—including your personal identifying information—may be made publicly available at any time. While you can ask us in your comment to withhold from public review your personal identifying information, we cannot guarantee that we will be able to do so. Any adverse comments will be reviewed by the BLM Gunnison Field Manager, who may sustain, vacate, or modify this realty action. In the absence of any objections or adverse comments, this proposed realty action will become the final determination of the Department of the Interior.

(Authority: 43 CFR 2920.4)

Kenny McDaniel,
Field Manager, Gunnison.

[FR Doc. E8-23440 Filed 10-2-08; 8:45 am]

BILLING CODE 4310-22-P